DEPARTMENT OF TRANSPORTATION

Federal Aviation Administration

14 CFR Part 39

[Docket No. 99-CE-66-AD]

RIN 2120-AA64

Airworthiness Directives; Cessna Aircraft Company Model 402C Airplanes

AGENCY: Federal Aviation Administration, DOT.

ACTION: Notice of proposed rulemaking (NPRM).

SUMMARY: This document proposes to supersede Airworthiness Directive (AD) 99-11-13, which currently requires inspecting (one-time) the forward, aft, and auxiliary wing spars for cracks on certain Cessna Aircraft Company (Cessna) Model 402C airplanes, and repairing any cracks found. AD 99-11-13 also required reporting the results of the inspection to the Federal Aviation Administration (FAA) to provide data to help FAA determine whether the inspection should be repetitive. After re-evaluating the fatigue analysis for the wing spars on the affected airplanes, FAA has determined that spar cap cracking is not an isolated condition and could continue to develop over the life of the affected airplanes. Therefore, the proposed AD would retain the inspection required in AD 99-11-13, and would make the inspection repetitive. The actions specified by the proposed AD are intended to continue to detect and correct any cracks in the forward, aft, and auxiliary wing spars, which could result in reduced or loss of control of the airplane.

DATES: The FAA must receive any comments on this rule on or before August 24, 2000.

ADDRESSES: Submit comments in triplicate to FAA, Central Region, Office of the Regional Counsel, Attention: Rules Docket No. 99-CE-66-AD, 901 Locust, Room 506, Kansas City, Missouri 64106.

You may get the service information referenced in the proposed AD from the Cessna Aircraft Company, P.O. Box 7706, Wichita, Kansas 67277; telephone: (316) 941-7550, facsimile: (316) 942-9008. You may examine this information at the Rules Docket at the address above.

FOR FURTHER INFORMATION CONTACT: Mr. Eual Conditt, Aerospace Engineer, FAA, Wichita Aircraft Certification Office, 1801 Airport Road, Room 100, Mid-Continent Airport, Wichita, Kansas 67209, telephone: (316) 946-4128; facsimile: (316) 946-4407.

SUPPLEMENTARY INFORMATION:

Comments Invited

The FAA invites comments on the proposed rule.

You may submit whatever written data, views, or arguments you choose. You need to include the rule's docket number and submit your comments in triplicate to the address specified under the caption ADDRESSES. The FAA will consider all comments received on or before the closing date specified above, before taking action on the proposed rule. We may change the proposals contained in this notice in light of the comments received.

The FAA is re-examining the writing style we currently use in regulatory documents, in response to the Presidential memorandum of June 1, 1998. That memorandum requires federal agencies to communicate more clearly with the public. We are interested in your comments on whether the style of this document is clearer, and any other suggestions you might have to improve the clarity of FAA communications that affect you. You can get more information about the Presidential memorandum and the plain language initiative at http://www.plainlanguage.gov.

The FAA specifically invites comments on the overall regulatory, economic, environmental, and energy aspects of the proposed rule that might necessitate a need to modify the proposed rule. You may examine all comments we receive before and after the closing date for comments in the Rules Docket. We will file a report in the Rules Docket that summarizes each FAA contact with the public that concerns the substantive parts of this proposal.

If you want us to acknowledge the receipt of your comments, you must include a self-addressed, stamped postcard. On the postcard, write “Comments to Docket No. 99-CE-66-AD.” We will date stamp and mail the postcard back to you.

Availability of NPRMs

You may obtain a copy of this NPRM by submitting a written request to FAA, Central Region, Office of the Regional Counsel, Attention: Rules Docket No. 99-CE-66-AD, 901 Locust, Room 506, Kansas City, Missouri 64106.

Discussion

Has FAA taken any action to this point? The FAA issued AD 99-11-13, Amendment 39-11184 (64 FR 29781, June 3, 1999), in order to detect and correct cracks in the forward, aft, and auxiliary spars of Cessna Model 402C airplanes. AD 99-11-13 requires that you accomplish the following on the affected airplanes:

—Inspect the forward, aft, and auxiliary wing spars for cracks in accordance with Cessna Service Bulletin MEB99-3, dated May 6, 1999;

—Repair any cracks found required in accordance with an FAA-approved repair scheme; and

—Report the results of the inspection to FAA.

AD 99-11-13 was the result of an accident of one of the affected airplanes where the right-hand wing failed just inboard of the nacelle at Wing Station (WS) 87. Investigation of this accident revealed fatigue cracking of the forward main spar that initiated at the edge of the front spar forward lower spar cap.

What has happened to necessitate further AD action? The reason for the reporting requirement of AD 99-11-13 was to provide data to FAA on the extent of cracking in the forward, aft, and auxiliary wing spars on the affected airplanes. After re-evaluating the fatigue analysis for the wing spars on the affected airplanes, FAA has determined that spar cap cracking is not an isolated condition and could continue to develop over the life of the affected airplanes.

The FAA's Determination and an Explanation of the Provisions of the Proposed AD

What has FAA decided? After examining the circumstances and reviewing all available information related to the incidents described above, we have determined that:

—The inspections required by AD 99-11-13 should be repetitive; and

—AD action should be taken to continue to detect and correct any cracks in the forward, aft, and auxiliary wing spars, which could result in reduced or loss of control of the airplane.

Is there a modification I can incorporate instead of repetitively inspecting the wing spars? The FAA has determined that long-term continued operational safety would be better assured by design changes that remove the source of the problem, rather than by repetitive inspections or other special procedures. With this in mind, FAA is working with Cessna in developing a strap installation that would have the capability of carrying airplane ultimate load if the spar cap was fractured. The intent is that this strap could be inspected and that the inspections of this strap would be incorporated into the operator's maintenance program, as a replacement for the repetitive inspections required by this AD.

The FAA may consider additional rulemaking action if this modification is developed and subsequently FAA-approved.

Cost Impact

How many airplanes does this proposed AD impact? We estimate that the proposed AD would affect 225 airplanes in the U.S. registry.

What is the cost impact of the proposed initial inspection for the affected airplanes on the U.S. Register? We estimate that it would take approximately 3 workhours per airplane to accomplish the proposed initial inspection, at an average labor rate of $60 an hour. Based on the figures presented above, the total cost impact of the proposed initial inspection on U.S. operators is estimated to be $40,500, or $180 per airplane.

What about the cost of repetitive inspections? The FAA has no method of determining the number of repetitive inspections each owner/operator would incur over the life of each of the affected airplanes so the cost impact is based on the initial inspection.

What is the difference between the cost impact of this AD and the cost impact of AD 99-11-13? The cost impact of the proposed AD is the same as is currently required by AD 99-11-13. The only difference between the proposed AD and AD 99-11-13 is the repetitive inspections of each affected airplane owner/operator. As discussed above, FAA has no way of determining the repetitive inspection costs.

Regulatory Impact

The regulations proposed herein would not have a substantial direct effect on the States, on the relationship between the national government and the States, or on the distribution of power and responsibilities among the various levels of government. Therefore, it is determined that this proposed rule would not have federalism implications under Executive Order 13132.

For the reasons discussed above, I certify that this action (1) Is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend 14 CFR part 39 of the Federal Aviation Regulations as follows:

PART 39—AIRWORTHINESS DIRECTIVES

1. The authority citation for part 39 continues to read as follows:

Authority: 49 U.S.C. 106(g), 40113, 44701.

§ 39.13 [Amended]

2. Section 39.13 is amended by removing Airworthiness Directive (AD) 99-11-13, Amendment 39-11184 (64 FR 29781, June 3, 1999), and by adding a new AD to read as follows:

Cessna Aircraft Company: Docket No. 99-CE-66-AD; Supersedes AD 99-11-13, Amendment 39-11184.

(a) What airplanes are affected by this AD? Any Model 402C airplane, certificated in any category, that has a serial number that falls within one of the following ranges:

(1) 689;

(2) 402C0001 through 402C0125;

(3) 402C0201 through 402C0355;

(4) 402C0401 through 402C0528;

(5) 402C0601 through 402C0653; and

(6) 402C0801 through 402C1020.

(b) Who must comply with this AD? Anyone who wishes to operate any of the above airplanes on the U.S. Register must comply with this AD.

(c) What problem does this AD address? The actions specified by this AD are intended to detect and correct any cracks in the forward, aft, and auxiliary wing spars, which could result in reduced or loss of control of the airplane.

(d) What must I do to address this problem? To address this problem, you must accomplish the following actions:

Actions | Compliance times | Procedures
(1) Accomplish both an external and internal inspection of the forward, aft, and auxiliary wing spars for cracks | (i) Initial Inspection: Upon accumulating 10,000 hours total time-in-service (TIS) on the airplane or within the next 25 hours TIS after June 21, 1999 (the effective date of AD 99-11-13), whichever occurs later (ii) Repetitive Inspections: Within 110 hours TIS after the last inspection required by this AD or AD 99-11-13, whichever is applicable, and thereafter at intervals not to exceed 110 hours TIS. | Accomplish these inspections in accordance with the ACCOMPLISHMENT INSTRUCTIONS section of Cessna Service Bulletin MEB99-3, dated May 6, 1999.
| (iii) The 110-hour TIS interval repetitive inspection time is established to allow this action to be accomplished with regular maintenance. The FAA initially determined that 100-hour TIS intervals would provide the safety intent, but has since determined that the 110-hour TIS intervals would provide the same safety intent while providing a 10-percent time flexibility in scheduling to coincide with regular maintenance
(2) If any crack is found on any forward, aft, or auxiliary wing spar during any inspection required by this AD, accomplish the following: | Prior to further flight after the inspection where the crack is found | Not Applicable.
(i) Obtain an FAA-approved repair scheme from the Cessna Aircraft Company, P.O. Box 7706, Wichita, Kansas 67277; telephone: (316) 941-7550, facsimile: (316) 942-9008; and
(ii) Incorporate this repair scheme.

Note: The compliance times specified in Cessna Service Bulletin MEB99-3, dated May 6, 1999, are different than those required by this AD. The times in this AD take precedence over those in the service bulletin.

(e) Can I comply with this AD in any other way? (1) You may use an alternative method of compliance or adjust the compliance time if:

(i) Your alternative method of compliance provides an equivalent level of safety; and

(ii) The Manager, Wichita Aircraft Certification Office (ACO), approves your alternative. Submit your request through an FAA Principal Maintenance Inspector, who may add comments and then send it to the Manager, Wichita ACO, 1801 Airport Road, Room 100, Mid-Continent Airport, Wichita, Kansas 67209.

(2) Alternative methods of compliance that were approved in accordance with AD 99-11-13 are considered approved as alternative methods of compliance for this AD.

Note: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) I get information about any already-approved alternative methods of compliance? You can contact Mr. Eual Conditt, Aerospace Engineer, FAA, Wichita Aircraft Certification Office, 1801 Airport Road, Room 100, Mid-Continent Airport, Wichita, Kansas 67209, telephone: (316) 946-4128; facsimile: (316) 946-4407.

(g) How do I get copies of the documents referenced in this AD? You may obtain copies of the documents referenced in this AD from the Cessna Aircraft Company, P. O. Box 7706, Wichita, Kansas 67277; or may examine this document at FAA, Central Region, Office of the Regional Counsel, 901 Locust, Room 506, Kansas City, Missouri 64106.

(h) Does this AD action affect any existing AD actions? This amendment supersedes AD 99-11-13, Amendment 39-11184.

Issued in Kansas City, Missouri, on June 14, 2000.
Michael K. Dahl,
Acting Manager, Small Airplane Directorate, Aircraft Certification Service.

[FR Doc. 00-15511 Filed 6-20-00; 8:45 am]

BILLING CODE 4910-13-U